ENVIRONMENTAL PROTECTION AGENCY

[EPA-HQ-OPP-2011-0197; FRL-8867-3]

Streptomyces Strain K61, and Wood Oils and Gums; Registration Review Final Decisions; Notice of Availability

AGENCY: Environmental Protection Agency (EPA).

ACTION: Notice.

SUMMARY: This notice announces the availability of EPA's final registration review decisions for the pesticides listed in the table in Unit II.A. Registration review is EPA's periodic review of pesticide registrations to ensure that each pesticide continues to satisfy the statutory standard for registration, that is, that the pesticide can perform its intended function without unreasonable adverse effects on human health or the environment. Through this program, EPA is ensuring that each pesticide's registration is based on current scientific and other knowledge, including its effects on human health and the environment.

FOR FURTHER INFORMATION CONTACT: For pesticide specific information, contact the person identified in the table in Unit II.A. For general information on the registration review program for biopesticides, contact: Chris Pfeifer, Biopesticides and Pollution Prevention Division (7511P), Office of Pesticide Programs, Environmental Protection Agency, 1200 Pennsylvania Ave., NW., Washington, DC 20460-0001; telephone number: (703) 308-0031; fax number: (703) 308-7026; e-mail address: pfeifer.chris@epa.gov.

SUPPLEMENTARY INFORMATION:

I. General Information

A. Does this action apply to me?

This action is directed to the public in general, and may be of interest to a wide range of stakeholders including environmental, human health, farm worker, and agricultural advocates; the chemical industry; pesticide users; and members of the public interested in the sale, distribution, or use of pesticides. Since others also may be interested, the Agency has not attempted to describe all the specific entities that may be affected by this action. If you have any questions regarding the applicability of this action to a particular entity, consult the pesticide-specific contact person listed in the table in Unit II.A.

B. How can I get copies of this document and other related information?

EPA has established dockets for these actions under the docket identification (ID) numbers listed in the table in Unit II.A. Publicly available docket materials are available either in the electronic dockets at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Background

A. What action is the agency taking?

Pursuant to 40 CFR 155.58, this notice announces the availability of EPA's final registration review decisions for the pesticides shown in the following table. A brief description of each pesticide and its use(s) is provided after the table.

Table 1—Registration Review Final Decisions
Registration review case name and number | Pesticide docket ID No. | Pesticide specific contact person, telephone number, e-mail address
Streptomyces Strain K61 Case No.: 6066 | EPA-HQ-OPP-2009-0509 | Anna Gross, (703) 305-5614, gross.anna@epa.gov.
Wood Oils and Gums Case No.: 3150 | EPA-HQ-OPP-2009-0258 | Sadaf Shaukat, (703) 347-8670, shaukat.sadaf@epa.gov.

1. Streptomyces Strain K61 (6066). Streptomyces Strain K61 is a naturally occurring soil bacterium registered for control of seed, root and stem rot, and to prevent wilt of ornamentals, vegetables and tree and forest seedlings caused by Fusarium, Alternaria, and Phomopsis. Streptomyces Strain K61 also suppresses root rots of Pythium, Phytophthora and Rhizoctonia in greenhouse plants and is used as a seed treatment for seed or soil borne damping off and early root rot.

2. Wood Oils and Gums (3150). The Wood Oils and Gums registration review case no longer contains any other wood oils or gums with active ingredients with registered products except for Cedar oil. As a biochemical active ingredient, products containing Cedar oil are registered as insect repellents.

Pursuant to 40 CFR 155.57, a registration review decision is the Agency's determination whether a pesticide meets, or does not meet, the standard for registration in FIFRA. EPA has considered the pesticides listed in the above table in light of the FIFRA standard for registration. The Final Decision documents in the listed dockets describe the Agency's rationale for issuing registration review final decisions for these pesticides.

In addition to the final registration review decision documents, the registration review dockets for the pesticides listed in the above table also include other relevant documents related to the registration review of these cases. The proposed registration review decisions were posted to the docket and the public was invited to submit any comments or new information. During the 60-day comment period, no public comments were received concerning the pesticides listed in the above table.

Pursuant to 40 CFR 155.58(c), the registration review case dockets for the pesticides listed in the above table will remain open until all actions required in the final decision have been completed.

Background on the registration review program is provided at: http://www.epa.gov/oppsrrd1/registration_review. Links to earlier documents related to the registration review of these pesticides are provided at the following Web addresses:

1. Streptomyces Strain K61 (6066): http://www.epa.gov/oppsrrd1/registration_review/streptomyces/index.html

2. Wood Oils and gums (3150): http://www.epa.gov/oppsrrd1/registration_review/wood-oils/index.html

B. What is the agency's authority for taking this action?

Section 3(g) of FIFRA and 40 CFR part 155, subpart C, provide authority for this action.

List of Subjects

Environmental protection, Pesticides and pests, Registration review, Streptomyces Strain K61, and Wood Oils and Gums.

Dated: March 30, 2011.
Keith A. Matthews,
Acting Director, Biopesticides and Pollution Prevention Division, Office of Pesticide Programs.

[FR Doc. 2011-8548 Filed 4-12-11; 8:45 am]

BILLING CODE 6560-50-P